DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 2, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Adams County, Colorado and Incorporated Areas
Docket No.: FEMA-B-2039
City of Northglenn | City Hall, 11701 Community Center Drive, Northglenn, CO 80233.
City of Thornton | City Hall, 9500 Civic Center Drive, Thornton, CO 80229.
Unincorporated Areas of Adams County | Adams County Community and Economic Development, 4430 South Adams County Parkway, 1st Floor, Suite W2000, Brighton, CO 80601.
Douglas County, Colorado and Incorporated Areas
Docket No.: FEMA-B-2039
Town of Parker | Town Hall, 20120 East Mainstreet, Parker, CO 80138.
Unincorporated Areas of Douglas County | Douglas County Department of Public Works Engineering, 100 Third Street, Castle Rock, CO 80104.
Rio Blanco County, Colorado and Incorporated Areas
Docket No.: FEMA-B-2050
Town of Meeker | Town Hall, 345 Market Street, Meeker, CO 81641.
Town of Rangely | Town Hall, 209 East Main Street, Rangely, CO 81648.
Unincorporated Areas of Rio Blanco County | Rio Blanco County Clerk and Recorder's Office, 555 Main Street, Meeker, CO 81641.
Cherokee County, Iowa and Incorporated Areas
Docket No.: FEMA-B-2031
City of Aurelia | City Hall, 236 Main Street, Aurelia, IA 51005.
City of Cherokee | City Hall, 416 West Main Street, Cherokee, IA 51012.
City of Larrabee | Community Center, 101 North Main Street, Larrabee, IA 51029.
City of Quimby | City Hall, 101 East 2nd Avenue, Quimby, IA 51049.
City of Washta | City Hall, 203 Main Street, Washta, IA 51061.
Unincorporated Areas of Cherokee County | Cherokee County Courthouse, 520 West Main Street, Cherokee, IA 51012.
Crawford County, Iowa and Incorporated Areas
Docket No.: FEMA-B-2036
City of Arion | Arion City Hall, 333 4th Street, Dow City, IA 51528.
City of Aspinwall | Crawford County Courthouse, 1202 Broadway, Denison, IA 51442.
City of Buck Grove | Buck Grove City Hall, 333 4th Street, Dow City, IA 51528.
City of Charter Oak | City Hall, 453 Railroad Street, Charter Oak, IA 51439.
City of Deloit | Community Center, 320 Maple Street, Deloit, IA 51441.
City of Denison | City Hall, 111 North Main Street, Denison, IA 51442.
City of Dow City | City Hall, 117 North Franklin Street, Dow City, IA 51528.
City of Kiron | City Hall, 12 North Grove Street, Kiron, IA 51448.
City of Manilla | City Hall, 443 Main Street, Manilla, IA 51454.
City of Ricketts | City Hall, 28 Maple Street, Ricketts, IA 51460.
City of Vail | City Hall, 215 Main Street, Vail, IA 51465.
City of Westside | City Hall, 131 Main Street, Westside, IA 54167.
Unincorporated Areas of Crawford County | Crawford County Courthouse, 1202 Broadway, Denison, IA 51442.
King George County, Virginia (All Jurisdictions)
Docket No.: FEMA-B-2030
Unincorporated Areas of King George County | King George County Community Development Department, 10459 Courthouse Drive, Suite 104, King George, Virginia 22485.

[FR Doc. 2021-17220 Filed 8-11-21; 8:45 am]

BILLING CODE 9110-12-P